DEPARTMENT OF DEFENSE

Office of the Secretary

32 CFR Part 254

Teacher and Teacher's Aide Placement Assistance Program

AGENCY: Department of Defense.

ACTION: Final rule.

SUMMARY: This document removes information in Title 32 of the Code of Federal Regulations concerning the Teacher and Teacher's Aide Placement Assistance Program. This part has served the purpose for which it was intended in the CFR and is no longer necessary.

EFFECTIVE DATE: February 6, 2003.

FOR FURTHER INFORMATION CONTACT: L. Bynum or P. Toppings, 703-601-4722.

SUPPLEMENTARY INFORMATION:

List of Subjects in 32 CFR Part 254

Elementary and secondary education; Government contracts; Government employees; Grant programs-education; Military personnel; Teachers.

PART 254—[REMOVED]

Accordingly, by the authority of 10 U.S.C. 301, 32 CFR part 254 is removed.

Dated: January 29, 2003.
L.M. Bynum,
Alternate OSD Federal Register Liaison Officer, Department of Defense.

[FR Doc. 03-2821 Filed 2-5-03; 8:45 am]

BILLING CODE 5001-08-M